DEPARTMENT OF TRANSPORTATION

National Highway Traffic Safety Administration

[Docket No. NHTSA-2004-19792; Notice 1]

Unified Marine, Inc., Receipt of Petition for Decision of Inconsequential Noncompliance

Unified Marine, Inc. (Unified Marine) has determined that certain combination lamps it distributed for sale, which were produced in 2002 through 2004, do not comply with 49 CFR 571.108, Federal Motor Vehicle Safety Standard (FMVSS) No. 108, “Lamps, reflective devices, and associated equipment.” Unified Marine has filed an appropriate report pursuant to 49 CFR part 573, “Defect and Noncompliance Reports.”

Pursuant to 49 U.S.C. 30118(d) and 30120(h), Unified Marine has petitioned for an exemption from the notification and remedy requirements of 49 U.S.C. chapter 301 on the basis that this noncompliance is inconsequential to motor vehicle safety.

This notice of receipt of Unified Marine's petition is published under 49 U.S.C. 30118 and 30120 and does not represent any agency decision or other exercise of judgment concerning the merits of the petition.

Approximately 52,665 combination lamps and combination lamp kits produced between December 2002 and July 2004 and marketed as “Road Warrior by SeaSense” are affected. These include the following combination lamps: 1,624 model 50080272 (right hand), 1,001 model 50080274 (left hand), 1,612 model 80272, and 1,947 model 80274, as well as 46,481 model 50080270 combination lamp kits that consist of two lamps per kit.

The subject rear combination lamps contain taillamps, stop lamps, turn signal lamps, rear reflex reflectors, and a side marker lamp. In addition, the combination lamps designated for the left (driver's) side of the vehicle contain a license plate lamp. FVMSS No. 108, S5.8.1, requires that each lamp, reflective device, or item of associated equipment manufactured to replace any lamp, reflective device, or item of associated equipment on any vehicle to which this standard applies, be designed to conform to the standard. As such, in order to comply with S5.8.1, the combination lamps must be designed to conform to the photometry, color, and other requirements specific to the devices incorporated into the lamp combination.

Unified Marine's noncompliance report indicates that the lamps may have incorrectly positioned circuit boards that, consequently, cause insufficient light output to meet the minimum color and photometry requirements of the standard.

Unified Marine believes that the noncompliance is inconsequential to motor vehicle safety and that no corrective action is warranted. Unified Marine states that

* * * our light has some deficiencies that are only detectable by highly sensitive testing equipment and not by visual means in actual use and therefore is not a safety issue. Upon review and extensive research, we have found out that the variations are not perceivable to the naked eye, and they are indeed inconsequential as they may only be seen in the laboratory environment. The lights are in no way unsafe in our opinion, and in fact much safer than the millions of conventional lights currently used in the marketplace.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 14, 2005.

Authority: 49 U.S.C. 30118, 30120: delegations of authority at CFR 1.50 and 501.8.

Issued on: December 9, 2004.
Kenneth N. Weinstein,
Associate Administrator for Enforcement.

[FR Doc. 04-27455 Filed 12-14-04; 8:45 am]

BILLING CODE 4910-59-P